DEPARTMENT OF THE INTERIOR

National Park Service

Notice of Realty Action, Independence National Historical Park, Pennsylvania and Valley Forge National Historical Park, Pennsylvania

AGENCY: National Park Service, Department of the Interior.

ACTION: Announcement of land exchange.

SUMMARY: This notice announces a proposed exchange of a 0.87-acre parcel of Federal land in Philadelphia County, Pennsylvania, for a 78-acre parcel of privately owned land in Lower Providence Township, Montgomery County, Pennsylvania. The federally owned land is located within the boundary of Independence National Historical Park (INDE). The privately owned land is located within the boundary of Valley Forge National Historical Park (VAFO).

All current compliance documents for this exchange are available on the following National Park Service (NPS) PEPC Web site: http://parkplanning.nps.gov/documentsList.cfm?parkId=245&projectId=28017.

I. The federally owned land has been determined to be suitable for disposal by exchange. The authority for this exchange is 16 U.S.C. 460l-22(b). The Federal property to be exchanged is identified as INDE Tract 01-182. The United States, National Park Service, acquired this land during the 1950s from various owners. The conveyance deeds are recorded at the Recorder of Deeds Office of Philadelphia County, Pennsylvania.

The United States will convey fee simple title to INDE Tract 01-182 by virtue of a Quitclaim Deed. The deed will impose permanent restrictions and reserve rights to the United States. A copy of the deed restrictions can also be found on the NPS PEPC Web site.

II. In exchange for the land described in paragraph I above, the United States will acquire fee simple title to the surface and mineral estates of VAFO Tract 101-60. This unimproved 78-acre parcel is owned by The National Center for the American Revolution. This parcel abuts the Walnut Hill complex of the Park, which contains significant encampment period buildings and ruins. The acquisition of this tract allows NPS to protect the resources in perpetuity and provides VAFO the ability to fully interpret the encampment of the Continental Army.

III. The values of the properties to be exchanged shall be determined by a current market value appraisal and if they are not approximately equal, the values shall be equalized by payment of cash as circumstances require.

For a period of 45 days from the date of this notice, interested parties may submit written comments to the Park Superintendents at the addresses listed below. Adverse comments will be evaluated and this action may be modified or vacated accordingly. In the absence of any action to modify or vacate, this realty action will become the final determination of the Department of the Interior. Before including your address, phone number, e-mail address, or other personal identifying information in your comment, you should be aware that your entire comment—including your personal identifying information—may be made publicly available at any time. While you can request in your comment that your personal identifying information be withheld from public review, we cannot guarantee that we will be able to do so.

FOR FURTHER INFORMATION CONTACT:

Superintendent Cynthia MacLeod, Independence National Historical Park, 143 S. Third Street, Philadelphia, Pennsylvania, Phone: 215-597-7120; or,

Superintendent Michael Caldwell, Valley Forge National Historical Park, 1400 North Outer Line Drive, King of Prussia, Pennsylvania 19406, Phone: 610-783-1037.

SUPPLEMENTARY INFORMATION: The Act of July 15, 1968, 82 Stat. 356, as amended, authorizes the Secretary of the Interior to acquire private property or interests within a unit of the National Park System in exchange for federally owned property or interests administered by the Department. The federally owned property must be (a) suitable for exchange, (b) located in the same State as the private property to be acquired, and (c) approximately equal in value or susceptible to being equalized with cash payments.

Dated: April 9, 2010.
Dennis Reidenbach,
Regional Director, Northeast Region.

[FR Doc. 2010-9119 Filed 4-20-10; 8:45 am]

BILLING CODE P